DEPARTMENT OF THE INTERIOR

Bureau of Indian Affairs

Indian Gaming

AGENCY: Bureau of Indian Affairs, Interior.

ACTION: Notice of Approved Tribal-State Gaming Compact Amendment.

SUMMARY: This notice publishes an Approval of the Third Amendment to the Wisconsin Winnebago Tribe, now known as the Ho-Chunk Nation and the State of Wisconsin Gaming Compact.

DATES: Effective Date: December 12, 2008.

FOR FURTHER INFORMATION CONTACT: Paula L. Hart, Acting Director, Office of Indian Gaming, Office of the Deputy Assistant Secretary—Policy and Economic Development, Washington, DC 20240, (202) 219-4066.

SUPPLEMENTARY INFORMATION: Under Section 11 of the Indian Gaming Regulatory Act of 1988 (IGRA), Public Law 100-497, 25 U.S.C. 2710, the Secretary of the Interior shall publish in the Federal Register notice of approved Tribal-State compacts for the purpose of engaging in Class III gaming activities on Indian lands. This Amendment modifies the existing arbitration provision by requiring that the parties utilize a last best offer format; establishes a term of twenty-five years; provides for the renegotiation of the revenue sharing and allows both parties to propose amendments to the Compact every five years.

Dated: November 28, 2008.
George T. Skibine,
Acting Deputy Assistant Secretary for Policy and Economic Development.

[FR Doc. E8-29420 Filed 12-11-08; 8:45 am]

BILLING CODE 4310-4N-P